DEPARTMENT OF ENERGY

Notice of Availability of Draft Waste Incidental to Reprocessing Evaluation for the Vitrification Melter at the West Valley Demonstration Project for West Valley, New York

AGENCY: Office of Environmental Management, U.S. Department of Energy.

ACTION: Notice of availability.

SUMMARY: The Department of Energy (DOE) announces the availability of a draft evaluation which shows that the vitrification melter (used to vitrify waste from reprocessing of spent nuclear fuel and certain treatment material) at the West Valley Demonstration Project (WVDP), located at the Western New York Service Center in West Valley, New York, is waste incidental to reprocessing and thus is not high-level radioactive waste (HLW) and may be managed and disposed of offsite as low-level waste (LLW). DOE prepared the draft evaluation pursuant to DOE Manual 435.1-1, Radioactive Waste Management. DOE is consulting with the Nuclear Regulatory Commission (NRC) before finalizing this evaluation. Although it is not required by DOE Manual 435.1-1, DOE is making the draft evaluation available for public and state review and comment during the NRC consultative review period. DOE will make its final evaluation and determination as to whether the vitrification melter is HLW, or is waste incidental to reprocessing which can be managed and disposed of as LLW, after consideration of any public, state, and NRC comments on this draft evaluation.

DATES: The comment period will end April 28, 2011. Comments received after that time will be considered to the extent practicable.

ADDRESSES: The draft waste evaluation is available on the Internet at http://apps.em.doe.gov/wvdp/, and is publicly available for review at the following locations: U.S. Department of Energy, Public Reading Room, 1000 Independence Avenue, SW., Washington, DC 20585, phone: (202) 586-5955, or fax: (202) 586-0575; and U.S. DOE, West Valley Demonstration Project Public Reading Room located at the Town of Concord Hulbert Library, 18 Chapel St., Springville, New York 14141, phone: (716) 592-7742. Written comments should be submitted to: Mr. Daniel Sullivan, U.S. Department of Energy, West Valley Demonstration Project, 10282 Rock Springs Road, West Valley, New York 14171-9799. Alternatively, comments may also be filed electronically by e-mail to melter@wv.doe.gov or by fax at (716) 942-4703.

FOR FURTHER INFORMATION CONTACT: For further information about this draft waste evaluation, please contact Mr. Daniel Sullivan at the mailing address or Web site listed above.

SUPPLEMENTARY INFORMATION: The vitrification melter is a box structure, approximately 10 feet on each side, with a stainless steel outer structure and an interior lined with refractory materials. It was used to solidify high-level waste which had been generated by commercial reprocessing of spent nuclear fuel at the Western New York Nuclear Service Center in West Valley, New York by Nuclear Fuel Services, Inc. from 1966 through 1972. DOE undertook the solidification activities pursuant to DOE's responsibilities under the West Valley Demonstration Project Act. To solidify the waste, DOE vitrified the waste (combined it at a high temperature with borosilicate glass) and transferred the molten glass-waste mixture into specially developed stainless steel canisters where the mixture hardened into a solid glass waste form. DOE used the vitrification melter as part of this process, specifically to melt glass frit (material used in making glass) together with reprocessing waste sludge and treatment material (spent ion removal resin).

DOE operated the vitrification melter between 1996 and 2002. In 2002, prior to shut down, the vitrification melter was flushed three times with decontamination solutions and emptied using an evacuated canister process so as to remove key radionuclides to the maximum extent technically and economically practical. After completing this decontamination, a small amount of hardened residual radioactive glass material that could not be removed remained inside the vitrification melter. The vitrification melter with the remaining residual waste was characterized for radioactivity and determined to have radionuclide concentrations that do not exceed concentration limits for Class C low-level waste. It was removed from the vitrification cell in 2004 and is presently safely stored at the West Valley Demonstration Project in a Department of Transportation-certified Industrial Package-2 steel transportation container. DOE plans to further stabilize the vitrification melter waste package by filling the melter and the waste package with cement grout before shipment offsite. It will be disposed of at a suitable off-site low-level waste disposal facility, either the Area 5 Radioactive Waste Management Site at DOE's Nevada National Security Site (NNSS) in Nevada or the Waste Control Specialists Federal Facility Waste Disposal Facility near Andrews, Texas. DOE intends to dispose of the vitrification melter waste package in accordance with applicable waste acceptance criteria using specific waste profile documentation.

DOE Manual 435.1-1, which implements DOE Order 435.1, Radioactive Waste Management, contains a rigorous evaluation process which DOE uses to determine whether or not certain waste from the reprocessing of spent nuclear fuel is incidental to reprocessing and therefore is not high-level waste and can be managed as low-level waste. This process, in relevant part, requires demonstrating that:

(1) Key radionuclides have been removed to the maximum extent that is technically and economically practical;

(2) The waste will be managed to meet safety requirements comparable to the performance objectives set out in 10 Code of Federal Regulations (CFR) Part 61, Subpart C, Performance Objectives; and

(3) The waste will be managed, pursuant to DOE's authority under the Atomic Energy Act of 1954, as amended, and in accordance with the provisions of Chapter IV of DOE Manual 435.1-1, provided the waste will be incorporated in a solid physical form at a concentration that does not exceed the applicable concentration limits for Class C low-level waste as set out in 10 CFR 61.55, Waste Classification.

The draft waste-incidental-to-reprocessing evaluation summarizes DOE's analysis and shows that the vitrification melter:

(1) Has had key radionuclides removed to the maximum extent technically and economically practical;

(2) Will be managed to meet safety requirements comparable to the NRC performance objectives at 10 CFR part 61, subpart C; and

(3) Will be in a solid physical form that does not exceed concentration limits for Class C low-level waste and will be managed and disposed of pursuant to DOE's authority under the Atomic Energy Act of 1954, as amended, and in accordance with applicable provisions of Chapter IV of DOE Manual 435.1-1.

Accordingly, the draft evaluation demonstrates using the waste-incidental-to-reprocessing evaluation process that the West Valley vitrification melter waste package may be managed and disposed of as low-level waste. The vitrification melter waste package will meet the applicable waste acceptance criteria for the selected offsite low-level waste disposal facility, either the NNSS Area 5 Radioactive Waste Management Site or the Waste Control Specialists Federal Facility Waste Disposal Facility in Texas. The vitrification melter waste package has been approved for disposal by the NNSS in case a final decision is made to send the waste package to that site for disposal.

DOE is consulting with the NRC before finalizing this evaluation. Although not required by DOE Manual 435.1-1, DOE is making the draft evaluation available for public and state review and comment during the NRC consultative review period. DOE plans to issue a final determination as to whether the vitrification melter is high-level waste or can be managed and disposed of as low-level waste following review and consultation with the NRC and consideration of public and state comments.

DOE's decision on the disposal site to be used is not within the scope of this draft evaluation. Any DOE decision on the facility to which the Vitrification Melter waste package would be sent would be made after the final DOE evaluation and determination, following consideration of NRC and public comments on this draft evaluation, and after DOE confers with appropriate State officials in the state where the waste package may be disposed.

Issued in Washington, DC, on March 8, 2011.
Frank Marcinowski,
Deputy Assistant Secretary for Technical and Regulatory Support, Office of Environmental Management.

[FR Doc. 2011-5789 Filed 3-11-11; 8:45 am]

BILLING CODE 6450-01-P